DEPARTMENT OF JUSTICE

Notice of Lodging of Proposed Consent Decree Under the Clean Air Act

On April 29, 2020, the Department of Justice lodged a proposed Consent Decree with the United States District Court for the Northern District of Illinois in the lawsuit entitled United States v. American Zinc Recycling Corp., Case No. 1:20-cv-02582.

The United States filed a Complaint seeking civil penalties and injunctive relief from Defendant American Zinc Recycling Corp. (“AZR”) for alleged violations of the Clean Air Act, 42 U.S.C. 7401-7671q, at its electric arc furnace flue dust recycling facility in Chicago (the “Facility”). Among other things, the United States alleges that AZR has violated statutory and regulatory requirements limiting particulate matter emissions from the Facility, as well as corresponding requirements in AZR's Clean Air Act permits for the Facility.

When the Complaint was filed, the United States also lodged a proposed Consent Decree that would settle the claims asserted in the Complaint. The proposed Consent Decree would require that AZR implement appropriate injunctive relief to control air pollutant emissions from the Facility, including upgrading multiple bag collectors that filter and remove particulate matter from air exhausted from the Facility. The Consent Decree also assess a $1,054,000 civil penalty. $654,000 of the penalty assessment would be payable on discounted basis under AZR's 2016 Chapter 11 bankruptcy reorganization plan. The remaining $400,000 would be paid in full.

The publication of this notice opens a period for public comment on the proposed Consent Decree. Comments should be addressed to the Principal Deputy Assistant Attorney General, Environment and Natural Resources Division, and should refer to United States v. American Zinc Recycling Corp., D.J. Ref. No. 90-5-2-1-11205. All comments must be submitted no later than thirty (30) days after the publication date of this notice. Comments may be submitted either by email or by mail:

To submit comments: | Send them to:
By email | pubcomment-ees.enrd@usdoj.gov.
By mail | Principal Deputy Assistant Attorney General U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library U.S. DOJ—ENRD, P.O. Box 7611, Washington, DC 20044-7611.

Please enclose a check or money order for $18.00 (25 cents per page reproduction cost) payable to the United States Treasury.

Patricia A. McKenna,
Assistant Section Chief, Environmental Enforcement Section, Environment and Natural Resources Division.

[FR Doc. 2020-09595 Filed 5-4-20; 8:45 am]

BILLING CODE 4410-15-P